NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time: October 31, 2024: 10:00 a.m. to 5:10 p.m.; November 1, 2024: 9:20 a.m. to 2:00 p.m.

Place: NSF, 2415 Eisenhower Avenue, Alexandria, VA 22314/Hybrid participation for AC Members, Presenters, Visitors, and Guests.

To attend the meeting of the Advisory Committee (AC) for Mathematical and Physical Sciences Directorate (MPS) in person, all visitors must contact the Directorate for Mathematical and Physical Sciences at least 48 hours prior to the meeting to arrange for a visitor's badge. Visitors must access NSF via the Visitor Center entry adjacent to the south building entrance on Eisenhower Avenue on the day of the meeting to pick up the visitor's badge. It is suggested that visitors allow time to pass through security screening.

To attend virtually, please use the link provided on the MPS AC website located at http://www.nsf.gov/mps/advisory.jsp.

Type of Meeting: Open.

Contact Person: Catalina Achim, National Science Foundation, 2415 Eisenhower Avenue, Room E9335, Alexandria, Virginia 22314; Telephone: 703-292-2048.

Meeting Information: http://www.nsf.gov/mps/advisory.jsp.

Purpose of Meeting: To provide advice, recommendations, and counsel on major goals and policies pertaining to MPS programs and activities.

Agenda

Thursday, October 31, 2024

• Call to Order and Official Opening of the Meeting

• Approval of Minutes of the March 2024 MPS Meeting

• MPS Directorate Update

• Research Security

• CHIPS and Science Act requirement for NSF Investment in EPSCOR Jurisdictions

• Science Highlight

• The Report of the Committee of Visitors for the Division of Mathematical Sciences

• NSF Artificial Intelligence Institutes with MPS Participation

• Broader Impacts at Facilities

• Preparation for the Meeting with the NSF Director, Chief Science Officer, and Director's Chief of Staff on Day 2

• Closing Remarks and Adjourn for the Day

Friday, November 1, 2024

• Welcome and Overview of Agenda

• Science Highlight

• The Report of the Committee of Visitors for the Division of Chemistry

• The NSF Budget

• Discussion with the NSF Director, NSF Chief Science Officer, and NSF Director's Chief of Staff

• Closing Remarks and Adjourn

Dated: September 25, 2024.
Crystal Robinson,
Committee Management Officer.

[FR Doc. 2024-22331 Filed 9-27-24; 8:45 am]

BILLING CODE 7555-01-P